DEPARTMENT OF EDUCATION

Office of Innovation and Improvement; Notice Extending the Deadline Date for Transmittal of Applications for the Excellence in Economic Education Program Fiscal Year (FY) 2010 Competition

Catalog of Federal Domestic Assistance (CFDA) Number: 84.215B.

SUMMARY: On December 21, 2009, we published in the Federal Register (74 FR 67862) a notice inviting applications for the Excellence in Economic Education program's FY 2010 competition. The original notice established a February 16, 2010, deadline date for eligible applicants to apply for funding under this program. For this competition, applicants are required to submit their applications electronically through the Department's Electronic Grant Application System (e-Application). However, e-Application will not be available to users beginning Wednesday, February 10, 2010 at 3:00 p.m. until 6:00 a.m. Tuesday, February 16, 2010. During this time the Department will transition the e-application process from the current system (GAPS) to a new system. Because e-Application will be unavailable for several days prior to the original deadline date, we are extending the deadline date for transmittal of applications for the Excellence in Economic Education program FY 2010 competition.

DATES: Deadline for Transmittal of Applications: February 22, 2010. (Applications must be received by e-Application no later than 4:30:00 p.m., Washington, DC time.)

Note: Applications for grants under this competition must be submitted electronically using the Electronic Grant Application System (e-Application) accessible through the Department's e-Grants site. You may not e-mail an electronic copy of a grant application to us. For information about how to submit your application electronically, please refer to section IV. 6. Other Submission Requirements in the December 21, 2009 notice (74 FR 67863). We have not extended the deadline for submitting a statement that an applicant qualifies for an exception to the electronic submission requirement.

Deadline for Intergovernmental Review: The deadline date for Intergovernmental Review under Executive Order 12732 is extended to April 21, 2010.

FOR FURTHER INFORMATION CONTACT: Carolyn Warren, U.S. Department of Education, 400 Maryland Avenue, SW., room 4W209, Washington, DC 20202-5900. Telephone: (202) 205-5443 or by e-mail: carolyn.warren@ed.gov.

If you use a telecommunications device, you may call the Federal Relay Service (FRS), toll free, at 1-800-877-8339.

Individuals with disabilities can obtain this document and a copy of the application package in an accessible format (e.g., braille, large print, audiotape, or computer diskette) on request to the program contact person listed under For FURTHER INFORMATION CONTACT in section VII of the notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: January 15, 2010.
James H. Shelton, III,
Assistant Deputy Secretary for Innovation and Improvement.

[FR Doc. 2010-1081 Filed 1-20-10; 8:45 am]

BILLING CODE 4000-01-P